DEPARTMENT OF THE TREASURY

Alcohol and Tobacco Tax and Trade Bureau

27 CFR Part 9

[Docket No. TTB-2010-0002; Notice No. 104]

RIN 1513-AB65

Proposed Renaming of the Yamhill-Carlton District Viticultural Area (2008R-305P)

AGENCY: Alcohol and Tobacco Tax and Trade Bureau, Treasury.

ACTION: Notice of proposed rulemaking.

SUMMARY: The Alcohol and Tobacco Tax and Trade Bureau proposes to rename the established Yamhill-Carlton District viticultural area located in Yamhill and Washington Counties, Oregon, as the “Yamhill-Carlton” viticultural area. The size and boundary description of the renamed viticultural area would remain the same. We designate viticultural areas to allow vintners to better describe the origin of their wines and to allow consumers to better identify wines they may purchase. We invite comments on this proposed addition to our regulations.

DATES: We must receive written comments on or before May 3, 2010.

ADDRESSES: You may send comments on this notice to one of the following addresses:

• http://www.regulations.gov (via the online comment form for this notice as posted within Docket No. TTB-2010-0002 at “Regulations.gov,” the Federal e-rulemaking portal);

• Director, Regulations and Rulings Division, Alcohol and Tobacco Tax and Trade Bureau, P.O. Box 14412, Washington, DC 20044-4412; or

• Hand delivery/courier in lieu of mail: Alcohol and Tobacco Tax and Trade Bureau, 1310 G Street, NW., Suite 200-E, Washington, DC 20005.

See the Public Participation section of this notice for specific instructions and requirements for submitting comments, and for information on how to request a public hearing.

You may view copies of this notice, selected supporting materials, and any comments we receive about this proposal at http://www.regulations.gov within Docket No. TTB-2010-0002. A link to that docket is posted on the TTB Web site at http://www.ttb.gov/wine/wine_rulemaking.shtml under Notice No. 104. You also may view copies of this notice, all related petitions, maps, or other supporting materials, and any comments we receive about this proposal by appointment at the TTB Information Resource Center, 1310 G Street, NW., Washington, DC 20220. Please call 202-453-2270 to make an appointment.

FOR FURTHER INFORMATION CONTACT: N.A. Sutton, Regulations and Rulings Division, Alcohol and Tobacco Tax and Trade Bureau, 925 Lakeville St., No. 158, Petaluma, CA 94952; phone 415-271-1254.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act requires that these regulations, among other things, prohibit consumer deception and the use of misleading statements on labels, and ensure that labels provide the consumer with adequate information as to the identity and quality of the product. The Alcohol and Tobacco Tax and Trade Bureau (TTB) administers the regulations promulgated under the FAA Act.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographic features, the boundaries of which have been recognized and defined in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographic features, such as climate, soils, elevation, and physical features, that distinguish the proposed viticultural area from surrounding areas;

• A description of the specific boundary of the proposed viticultural area, based on features found on United States Geological Survey (USGS) maps; and

• A copy of the appropriate USGS map(s) with the proposed viticultural area's boundary prominently marked.

Establishment of the Yamhill-Carlton District Viticultural Area

In 2002, TTB's predecessor Agency, the Bureau of Alcohol, Tobacco and Firearms, received petitions from Mr. Alex Sokol-Blosser, Secretary of the North Willamette Valley [American Viticultural Area] Group, and from Mr. Ken Wright, on behalf of certain grape growers, to establish a new viticultural area to be called the “Yamhill-Carlton District.” Located in northwestern Oregon, the proposed Yamhill-Carlton District was approximately 35 miles southwest of Portland, Oregon, and 25 miles from the Pacific Ocean, in Yamhill and Washington Counties, Oregon, and entirely within the larger Willamette Valley viticultural area (27 CFR 9.90).

On October 7, 2003, TTB published in the Federal Register (68 FR 57845) Notice No. 19, proposing the establishment of the Yamhill-Carlton District viticultural area. In response to that notice, the only comment TTB received was in support of the proposed establishment. On December 9, 2004, TTB published in the Federal Register (69 FR 71372) Treasury Decision (T.D.) TTB-20, establishing the Yamhill-Carlton District viticultural area (27 CFR 9.183) as originally proposed.

The T.D. states that the Yamhill-Carlton District viticultural area boundary line surrounds the towns of Yamhill and Carlton, which lie 3 miles apart along Route 47 in Yamhill County. In the “Name Evidence” section, it states that the first time the two names were used together was in the 1853 establishment of the Yamhill-Carlton Pioneer Cemetery. The cemetery is identified on the USGS Carlton quadrangle map (published in 1957; revised in 1992). Local usage of the “Yamhill-Carlton” name has continued into the modern era. For example, in 1955, the Yamhill-Carlton Union High School was established in the Yamhill-Carlton School District.

Petition To Change the Yamhill-Carlton District Viticultural Area Name

In 2008, Mr. Ken Wright, of Ken Wright Cellars, submitted a petition to TTB to change the name of the viticultural area from “Yamhill-Carlton District” to “Yamhill-Carlton.” In the current petition, Mr. Wright asserts that when the viticultural area was originally proposed “[t]he inclusion of the word ‘District’ was completely discretionary and added only to enforce the idea of the AVA [American viticultural area] being a regionalized area.” Further, he states that “[h]istorically the area has always been referred to as simply ‘Yamhill-Carlton’ Additionally, the length of the current name is very difficult to fit on a [wine] label. Many wineries have found it impossible, given their current label graphics, to utilize the name.”

Many others joined Mr. Wright, writing letters included with the petition, in support of renaming the Yamhill-Carlton District viticultural area as the Yamhill-Carlton viticultural area. Kathie Oriet, Mayor of the City of Carlton, Oregon, wrote, “As Mayor of the small city of Carlton, I feel the viticultural area designation should represent the more commonly known name of Yamhill-Carlton. Many area joint ventures are known as Yamhill-Carlton in both Yamhill and Carlton, including the local school district, local sports groups and even the community luncheon group.” Laurent Montalieu, winemaker at Solena Cellars, stated, “Historically, the area has been more commonly referred to [as] Yamhill-Carlton rather than the Yamhill-Carlton District, as well as the wines.” Mr. Mantalieu also noted that a change to the shorter “Yamhill-Carlton” would be helpful in printing [wine] labels. David Grooters, owner of Carlton Cellars, explained, “The area is always referred to as Yamhill-Carlton. As in: ‘I went to Yamhill-Carlton High School,’ or ‘I grew up in Yamhill-Carlton.’ The simpler Yamhill-Carlton AVA [name] would be much preferable for use in our labeling and marketing materials.” Brian O'Donnell of Belle Pente Vineyard and Winery stated that the region is more generally known as “Yamhill-Carlton,” not “Yamhill-Carlton District * * *. I believe that there is a broad consensus with the Yamhill-Carlton winegrower community that making this change is the right thing to do, and I hope that the TTB will be able to take action.” Finally, Jacki Bessler of Barbara Thomas Wines stated that shortening the name “will greatly impact our ability to attractively place the AVA designation on our label. Perhaps more important, however, is that by adding the word ‘District’ to Yamhill-Carlton, we have actually moved away [from] historical and geographic accuracy. I personally know of no other geographic, public, historic, or other Yamhill-Carlton name that has the term ‘district’ attached. We are known, simply, by Yamhill-Carlton.”

Name Evidence

TTB notes that the original 2002 petition to establish the Yamhill-Carlton District viticultural area included entries in the local telephone book for the Yamhill-Carlton School District and the Yamhill-Carlton High School.

The current petition provides several recent examples of local usage of the Yamhill-Carlton name without the word “District.” On March 17, 2007, the Community Press newspaper ran an advertisement for a dance sponsored by the Yamhill-Carlton Booster Club at the Yamhill-Carlton High School cafeteria. The Lincoln County School District, Boys Basketball, online schedule (accessed February 11, 2008) showed that the Yamhill-Carlton Tournament had been scheduled for November 30 and December 1, 2007. According to the petition, The Oregonian, a newspaper published in Portland, reported “Yamhill-Carlton 6, Seaside 5” in prep baseball (date unknown). A printed flyer, distributed by the Yamhill-Carlton Anti-Drug Coalition to announce it was to meet on January 25th [2008] at 7:00 p.m., was addressed to “Dear Yamhill-Carlton Community Partner.” On February 11, 2008, “The Statesman Journal” reported biographical information online about Ed Glad, candidate for State Representative and formerly a member of the Yamhill-Carlton High School Site Council.

Additional examples of the use of the Yamhill-Carlton name provided with the petition include the following: (1) An e-mail announcing the Yamhill-Carlton Community Luncheon; (2) a brown bag lunch event with the guest speakers being the police chiefs of Yamhill and Carlton, February 12, 2008, at the Yamhill City Hall; (3) a June 1, 2008, photograph showing the sign for the “Historic Yamhill-Carlton Pioneer Memorial Cemetery, Established 1853”; and (4) a listing for the “Yamhill-Carlton FFA Alumni” with the Oregon Future Farmers of America Association.

Search for the Term “Yamhill-Carlton”

A TTB query of the “Yamhill-Carlton” name on the USGS Geographic Names Information System (GNIS) database yielded no hits for the exact “Yamhill-Carlton” name usage. However, our query of the “Yamhill-Carlton” name using an Internet search engine yielded 44,000 results, a sampling of which reference the existing Yamhill-Carlton District viticultural area within the general area of the Yamhill-Carlton region in northwest Oregon.

TTB Determination

TTB concludes that this petition to rename the Yamhill-Carlton District viticultural area as the Yamhill-Carlton viticultural area merits consideration and public comment as invited in this notice.

Impact on Current Wine Labels

Part 4 of the TTB regulations prohibits any label reference on a wine that indicates or implies an origin other than the wine's true place of origin. If we approve this proposed viticultural area name change, the new name, “Yamhill-Carlton,” will be recognized as the name of the viticultural area. This name change will affect vintners who currently use the “Yamhill-Carlton District” name as an appellation of origin because only the approved viticultural name may be so used. Under 27 CFR 4.39(i)(3), “Yamhill-Carlton” has been recognized as a term of viticultural significance by TTB since the establishment of the Yamhill-Carlton District AVA. Accordingly, dropping “District” from the viticultural area name will not change the viticultural significance of the term “Yamhill-Carlton.”

For a wine to be labeled with a viticultural area name or with a brand name that includes a viticultural area name or other term identified as being viticulturally significant in part 9 of the TTB regulations, at least 85 percent of the wine must be derived from grapes grown within the area represented by that name or other term, and the wine must meet the other conditions listed in 27 CFR 4.25(e)(3). If the wine is not eligible for labeling with the viticultural area name or other viticulturally significant term and that name or term appears in the brand name, then the label is not in compliance and the bottler must change the brand name and obtain approval of a new label. Similarly, if the viticultural area name or other term of viticultural significance appears in another reference on the label in a misleading manner, the bottler would have to obtain approval of a new label.

Different rules apply if a wine has a brand name containing a viticultural area name or other term of viticultural significance that was used as a brand name on a label approved before July 7, 1986. See 27 CFR 4.39(i)(2) for details.

Transition Period for “Yamhill-Carlton District” Labels

If we adopt a final rule renaming this viticultural area, under the proposed regulatory text, current holders of labels that were approved before the effective date of the final rule that use the “Yamhill-Carlton District” name to designate a viticultural area will be permitted to use those approved labels during a 2-year transition period. At the end of the 2-year period, holders of approved “Yamhill-Carlton District” wine labels must discontinue their use, as their certificates of label approval would be revoked by operation of the final rule. (See 27 CFR 13.51 and 13.72(a)(2).) The proposed regulatory text includes a statement to this effect as a new paragraph (d) in § 9.183. We believe the 2-year period will provide such label holders with adequate time to use up their supply of previously approved labels.

TTB notes that label holders who continue to use labels showing the “Yamhill-Carlton District” name during the transition period also may apply for Certificates of Label Approval with the Yamhill-Carlton name, and use such labels, if approved.

Public Participation

Comments Invited

We invite comments from interested members of the public on the appropriateness of changing the name of the existing “Yamhill-Carlton District” viticultural area to “Yamhill-Carlton,” and the 2-year transition period. We are particularly interested in comments on any possible effects that this name change would have on label holders using the Yamhill-Carlton District appellation of origin. We are also interested in comments regarding any negative economic impact which might result from the proposed change in the name of the viticultural area, including whether a transition period is necessary to alleviate the economic impact, whether 2 years constitute the appropriate length of time for a transition period in order to alleviate the economic impact, or whether a transition period may not be effective in alleviating such impact. If a transition period would not be effective or if there are other valid reasons that are relevant to this rulemaking, we are interested in comments as to whether both “Yamhill-Carlton District” and “Yamhill-Carlton” should be the names of the viticultural area.

Submitting Comments

You may submit comments on this notice by using one of the following three methods:

• Federal e-Rulemaking Portal: You may send comments via the online comment form posted with this notice in Docket No. TTB-2010-0002 on “Regulations.gov,” the Federal e-rulemaking portal, at http://www.regulations.gov. A direct link to that docket is available under Notice No. 104 on the TTB Web site at http://www.ttb.gov/wine/wine_rulemaking.shtml. Supplemental files may be attached to comments submitted via Regulations.gov. For complete instructions on how to use Regulations.gov, visit the site and click on “User Guide” under “How to Use this Site.”

• U.S. Mail: You may send comments via postal mail to the Director, Regulations and Rulings Division, Alcohol and Tobacco Tax and Trade Bureau, P.O. Box 14412, Washington, DC 20044-4412.

• Hand Delivery/Courier: You may hand-carry your comments or have them hand-carried to the Alcohol and Tobacco Tax and Trade Bureau, 1310 G Street, NW., Suite 200-E, Washington, DC 20005.

Please submit your comments by the closing date shown above in this notice. Your comments must reference Notice No. 104 and include your name and mailing address. Your comments also must be made in English, be legible, and be written in language acceptable for public disclosure. We do not acknowledge receipt of comments, and we consider all comments as originals.

If you are commenting on behalf of an association, business, or other entity, your comment must include the entity's name as well as your name and position title. If you comment via http://www.regulations.gov, please enter the entity's name in the “Organization” blank of the comment form. If you comment via mail, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

On the Federal e-rulemaking portal, Regulations.gov, we will post, and you may view, copies of this notice, selected supporting materials, and any electronic or mailed comments we receive about this proposal. A direct link to the Regulations.gov docket containing this notice and the posted comments received on it is available on the TTB Web site at http://www.ttb.gov/wine/wine_rulemaking.shtml under Notice No. 104. You may also reach the docket containing this notice and the posted comments received on it through the Regulations.gov search page at http://www.regulations.gov.

All posted comments will display the commenter's name, organization (if any), city, and State, and, in the case of mailed comments, all address information, including e-mail addresses. We may omit voluminous attachments or material that we consider unsuitable for posting.

You also may view copies of this notice, all related petitions and other supporting materials, and any electronic or mailed comments we receive about this proposal by appointment at the TTB Information Resource Center, 1310 G Street, NW., Washington, DC 20220. You may also obtain copies at 20 cents per 8.5- x 11-inch page. Contact our information specialist at the above address or by telephone at 202-453-2270 to schedule an appointment or to request copies of comments or other materials.

Regulatory Flexibility Act

We certify that this proposed regulatory amendment, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866. Therefore, it requires no regulatory assessment.

Drafting Information

N.A. Sutton of the Regulations and Rulings Division drafted this notice.

List of Subjects in 27 CFR Part 9

Wine.

Proposed Regulatory Amendment

For the reasons discussed in the preamble, we propose to amend 27 CFR, chapter I, part 9, as follows:

PART 9—AMERICAN VITICULTURAL AREAS

1. The authority citation for part 9 continues to read as follows:

Authority: 27 U.S.C. 205.

Subpart C—Approved American Viticultural Areas

2. Section 9.183 is amended by revising the section heading, paragraph (a) and the introductory text of paragraphs (b) and (c), and by adding a new paragraph (d), to read as follows:

§ 9.183 Yamhill-Carlton.

(a) Name. The name of the viticultural area described in this section is “Yamhill-Carlton”. For purposes of part 4 of this chapter, “Yamhill-Carlton” is a term of viticultural significance.

(b) Approved maps. The appropriate maps for determining the boundary of the Yamhill-Carlton viticultural area are eight 1:24,000 scale United States Geological Survey topography maps. They are titled:

* * * * *

(c) Boundary. The Yamhill-Carlton viticultural area is located in Yamhill and Washington Counties, Oregon, and is entirely within the Willamette Valley viticultural area. The Yamhill-Carlton viticultural area is limited to lands at or above 200 feet in elevation and at or below 1,000 feet in elevation within its boundary, which is described as follows—

* * * * *

(d) From February 7, 2005, until [INSERT DATE ONE DAY BEFORE EFFECTIVE DATE OF THE FINAL RULE], the name of this viticultural area was “Yamhill-Carlton District”. Effective [INSERT EFFECTIVE DATE OF THE FINAL RULE], this viticulture area is named “Yamhill-Carlton”. Existing certificates of label approval showing “Yamhill-Carlton District” as an appellation of origin are revoked by operation of this regulation on [INSERT DATE 2 YEARS AFTER EFFECTIVE DATE OF THE FINAL RULE].

Signed: January 29, 2010.
John J. Manfreda,
Administrator.

[FR Doc. 2010-4570 Filed 3-3-10; 8:45 am]

BILLING CODE 4810-31-P